DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of eight individuals and 11 entities whose property and interests in property have been blocked pursuant to the Foreign Narcotics Kingpin Designation Act (Kingpin Act) (21 U.S.C. 1901-1908, 8 U.S.C. 1182).

DATES: The designations by the Acting Director of OFAC of the eight individuals and 11 entities identified in this notice pursuant to section 805(b) of the Kingpin Act are effective on May 3, 2016.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Kingpin Act provides that the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On May 3, 2016, the Acting Director of OFAC designated the following eight individuals and 11 entities whose property and interests in property are blocked pursuant to section 805(b) of the Kingpin Act.

Individuals

1. CASTILLO LONDONO, Claudia Jannet (Latin: CASTILLO LONDOÑO, Claudia Jannet); DOB 14 Apr 1963; POB Medellin, Antioquia, Colombia; Cedula No. 43056130 (Colombia); C.U.I.T. 27-60357111-3 (Argentina) (individual) [SDNTK] (Linked To: COMERCIALIZADORA TROPPO SOCIEDAD ANONIMA; Linked To: RECREO S.A.; Linked To: SUBASTA GANADERA DE CAUCASIA S.A.; Linked To: FRIGORIFICO DEL CAUCA S.A.S.; Linked To: DYSTRY PANAMA S.A.; Linked To: LA ALIANZA GANADERA LTDA.; Linked To: CONSTRUCTORA PIEDRA DEL CASTILLO S.A.S.). Acting for or on behalf of COMERCIALIZADORA TROPPO SOCIEDAD ANONIMA, RECREO S.A., FRIGORIFICO DEL CAUCA S.A.S., and/or Jose Bayron PIEDRAHITA CEBALLOS, and therefore meets the criteria for designation as an SDNT pursuant to section 805(b)(3) of the Kingpin Act, 21 U.S.C. 1904(b)(3).

2. GARCES GIRALDO, Duber Astrid; DOB 18 Jan 1971; POB Envigado, Antioquia, Colombia; Cedula No. 43732323 (Colombia) (individual) [SDNTK] (Linked To: COMERCIALIZADORA TROPPO SOCIEDAD ANONIMA; Linked To: RECREO S.A.). Acting for or on behalf of COMERCIALIZADORA TROPPO SOCIEDAD ANONIMA and RECREO S.A., and therefore meets the criteria for designation as an SDNT pursuant to section 805(b)(3) of the Kingpin Act, 21 U.S.C. § 1904(b)(3).

3. JARAMILLO ESTRADA, Nelson Fernando; DOB 23 Jan 1962; POB Medellin, Antioquia, Colombia; Cedula No. 70554907 (Colombia) (individual) [SDNTK] (Linked To: COMERCIALIZADORA TROPPO SOCIEDAD ANONIMA; Linked To: SUBASTA GANADERA DE CAUCASIA S.A.; Linked To: FRIGORIFICO DEL CAUCA S.A.S.; Linked To: DYSTRY PANAMA S.A.; Linked To: RECREO S.A.; Linked To: GUMOBARO S.A.S.). Acting for or on behalf of COMERCIALIZADORA TROPPO SOCIEDAD ANONIMA, FRIGORIFICO DEL CAUCA S.A.S., RECREO S.A., and/or Jose Bayron PIEDRAHITA CEBALLOS, and therefore meets the criteria for designation as an SDNT pursuant to section 805(b)(3) of the Kingpin Act, 21 U.S.C. § 1904(b)(3).

4. PALACIO MONTOYA, Nelson Albeiro; DOB 28 Nov 1968; POB Medellin, Antioquia, Colombia; Cedula No. 71702964 (Colombia) (individual) [SDNTK] (Linked To: SUBASTA GANADERA DE CAUCASIA S.A.; Linked To: FRIGORIFICO DEL CAUCA S.A.S.). Acting for or on behalf of SUBASTA GANADERA DE CAUCASIA S.A., FRIGORIFICO DEL CAUCA S.A.S, and/or Jose Bayron PIEDRAHITA CEBALLOS, and therefore meets the criteria for designation as an SDNT pursuant to section 805(b)(3) of the Kingpin Act, 21 U.S.C. § 1904(b)(3).

5. PIEDRAHITA CASTILLO, Jose; DOB 23 May 1989; POB Cali, Valle, Colombia; Cedula No. 1136881315 (Colombia) (individual) [SDNTK] (Linked To: RECREO S.A.; Linked To: FRIGORIFICO DEL CAUCA S.A.S.; Linked To: GOODY PET S.A.S.; Linked To: GUMOBARO S.A.S.; Linked To: CONSTRUCTORA PIEDRA DEL CASTILLO S.A.S.; Linked To: SUBASTA GANADERA DE CAUCASIA S.A.). Acting for or on behalf of RECREO S.A. and FRIGORIFICO DEL CAUCA S.A.S., and therefore meets the criteria for designation as an SDNT pursuant to section 805(b)(3) of the Kingpin Act, 21 U.S.C. § 1904(b)(3).

6. PIEDRAHITA CASTILLO, Andres; DOB 01 Aug 1991; POB Cali, Valle, Colombia; Cedula No. 1017194157 (Colombia) (individual) [SDNTK] (Linked To: COMERCIALIZADORA TROPPO SOCIEDAD ANONIMA; Linked To: SUBASTA GANADERA DE CAUCASIA S.A.; Linked To: FRIGORIFICO DEL CAUCA S.A.S.; Linked To: RECREO S.A.; Linked To: DYSTRY PANAMA S.A.). Acting for or on behalf of FRIGORIFICO DEL CAUCA S.A.S. and/or Jose Bayron PIEDRAHITA CEBALLOS, and therefore meets the criteria for designation as an SDNT pursuant to section 805(b)(3) of the Kingpin Act, 21 U.S.C. § 1904(b)(3).

7. PIEDRAHITA CEBALLOS, Jose Bayron; DOB 27 Dec 1958; POB Bello, Antioquia, Colombia; Cedula No. 8399245 (Colombia); C.U.I.T. 20-60357110-0 (Argentina) (individual) [SDNTK] (Linked To: ARROCERA CONTADORA; Linked To: JOSE PIELES; Linked To: COMERCIALIZADORA TROPPO SOCIEDAD ANONIMA; Linked To: SUBASTA GANADERA DE CAUCASIA S.A.; Linked To: FRIGORIFICO DEL CAUCA S.A.S.; Linked To: RECREO S.A.; Linked To: DYSTRY PANAMA S.A.; Linked To: LA ALIANZA GANADERA LTDA.; Linked To: LA OFICINA DE ENVIGADO). Materially assisting in, or providing financial or technological support for or to, or providing goods or services in support of, the international narcotics trafficking activities of LA OFICINA DE ENVIGADO, and/or is acting for or on behalf of LA OFICINA DE ENVIGADO, and therefore meets the criteria for designation as an SDNT pursuant to sections 805(b)(2) and/or (3) of the Kingpin Act, 21 U.S.C. § 1904(b)(2) and/or (3).

8. RUIZ PEREZ, Leonardo; DOB 24 Jun 1973; POB Medellin, Antioquia, Colombia; Cedula No. 98563640 (Colombia) (individual) [SDNTK] (Linked To: COMERCIALIZADORA TROPPO SOCIEDAD ANONIMA; Linked To: SUBASTA GANADERA DE CAUCASIA S.A.; Linked To: LA ALIANZA GANADERA LTDA.; Linked To: DYSTRY PANAMA S.A.). Acting for or on behalf of COMERCIALIZADORA TROPPO SOCIEDAD ANONIMA, DYSTRY PANAMA S.A., and LA ALIANZA GANADERA LTDA., and therefore meets the criteria for designation as an SDNT pursuant to section 805(b)(3) of the Kingpin Act, 21 U.S.C. § 1904(b)(3).

Entities

1. ARROCERA CONTADORA, Vereda Rioman, Caceres, Antioquia, Colombia; Carrera 4A No. 7A-47, Barrio Centro, Ayapel, Cordoba, Colombia; Matricula Mercantil No 57192402 (Medellin) [SDNTK]. Owned by Jose Bayron PIEDRAHITA CEBALLOS, and therefore meets the statutory criteria for designation pursuant to section 805(b)(3) of the Kingpin Act, 21 U.S.C. § 1904(b)(3).

2. COMERCIALIZADORA TROPPO SOCIEDAD ANONIMA (a.k.a. TROPPO S.A.), Calle 7 Sur 42 70 603, Medellin, Antioquia, Colombia; NIT # 800142500-2 (Colombia) [SDNTK]. Owned, controlled, or directed by Jose Bayron PIEDRAHITA CEBALLOS and/or FRIGORIFICO DEL CAUCA LTDA., and therefore meets the statutory criteria for designation pursuant to section 805(b)(3) of the Kingpin Act, 21 U.S.C. § 1904(b)(3).

3. CONSTRUCTORA PIEDRA DEL CASTILLO S.A.S., Cr. 27 Nro. 35 Sur 162, Of. 336, Envigado, Antioquia, Colombia; NIT # 900848164-4 (Colombia) [SDNTK]. Controlled or directed by Jose PIEDRAHITA CASTILLO and/or Claudia Jannet CASTILLO LONDOÑO, and therefore meets the statutory criteria for designation pursuant to section 805(b)(3) of the Kingpin Act, 21 U.S.C. § 1904(b)(3).

4. DYSTRY PANAMA S.A., Av. Ramon Arias Malina, Primer Piso, Ciudad de Panama, Panama; Calle Calderon de La Barca 1315, Buenos Aires, Argentina; RUC # 245800-1-402386 (Panama) [SDNTK]. Controlled or directed by, or acting for or on behalf of, Nelson Fernando JARAMILLO ESTRADA and/or Jose Bayron PIEDRAHITA CEBALLOS, and therefore meets the statutory criteria for designation pursuant to section 805(b)(3) of the Kingpin Act, 21 U.S.C. § 1904(b)(3).

5. FRIGORIFICO DEL CAUCA S.A.S., Calle 30 28 A 14, Kilometro 1 Via Monteria, Caucasia, Antioquia, Colombia; NIT # 811017934-0 (Colombia) [SDNTK]. Controlled or directed by, or acting for or on behalf of, Jose Bayron PIEDRAHITA CEBALLOS, and therefore meets the statutory criteria for designation pursuant to section 805(b)(3) of the Kingpin Act, 21 U.S.C. § 1904(b)(3).

6. GOODY PET S.A.S. (f.k.a. PET TREATS FACTORY COLOMBIA S.A.S.), Av. 36 C DG No. 42 CC 20, Bello, Antioquia, Colombia; Ciudad de Guatemala, Guatemala; NIT # 900713562-2 (Colombia) [SDNTK]. Owned, controlled, or directed by Jose PIEDRAHITA CASTILLO, and therefore meets the statutory criteria for designation pursuant to section 805(b)(3) of the Kingpin Act, 21 U.S.C. § 1904(b)(3).

7. GUMOBARO S.A.S., Cr. 27 Nro. 35 Sur 162, Of. 336, Envigado, Antioquia, Colombia; NIT # 811002414-7 (Colombia) [SDNTK]. Owned, controlled, or directed by Nelson Fernando JARAMILLO ESTRADA, and therefore meets the statutory criteria for designation pursuant to section 805(b)(3) of the Kingpin Act, 21 U.S.C. § 1904(b)(3).

8. JOSE PIELES, Km. 4 via Caucasia Caceres, Hda. Contadora, Caucasia, Antioquia, Colombia; Matricula Mercantil No 54369602 (Medellin) [SDNTK]. Owned by Jose Bayron PIEDRAHITA CEBALLOS, and therefore meets the statutory criteria for designation pursuant to section 805(b)(3) of the Kingpin Act, 21 U.S.C. § 1904(b)(3).

9. LA ALIANZA GANADERA LTDA. (a.k.a. LA ALIANZA GANADERA S.A.S.), Calle 7 Sur 42 70, Of. 603, Medellin, Antioquia, Colombia; NIT # 900185737-8 (Colombia) [SDNTK]. Owned, controlled, or directed by Jose Bayron PIEDRAHITA CEBALLOS and/or TROPPO S.A., and therefore meets the statutory criteria for designation pursuant to section 805(b)(3) of the Kingpin Act, 21 U.S.C. § 1904(b)(3).

10. RECREO S.A., Calle 36D Sur Nro. 27-160 CA 54, Envigado, Antioquia, Colombia; NIT # 830500371-4 (Colombia) [SDNTK]. Owned by Jose Bayron PIEDRAHITA CEBALLOS and/or TROPPO S.A., and therefore meets the statutory criteria for designation pursuant to section 805(b)(3) of the Kingpin Act, 21 U.S.C. § 1904(b)(3).

11. SUBASTA GANADERA DE CAUCASIA S.A. (a.k.a. SUBAGAUCA S.A.), Coliseo de Ferias, Km. 1 via a Planeta Rica, Caucasia, Antioquia, Colombia; NIT # 811016451-0 (Colombia) [SDNTK]. Owned, controlled, or directed by, or acting for or on behalf of Jose Bayron PIEDRAHITA CEBALLOS, Leonardo RUIZ PEREZ, Claudia Jannet CASTILLO LONDOÑO, Nelson Fernando JARAMILLO ESTRADA, Andres PIEDRAHITA CASTILLO, FRIGORIFICO DEL CAUCA S.A.S., GUMOBARO S.A.S., and/or TROPPO S.A., and therefore meets the statutory criteria for designation pursuant to section 805(b)(3) of the Kingpin Act, 21 U.S.C. § 1904(b)(3).

Dated: May 3, 2016.
John E. Smith,
Acting Director, Office of Foreign Assets Control.

[FR Doc. 2016-10646 Filed 5-5-16; 8:45 am]

BILLING CODE 4810-AL-P